NATIONAL AERONAUTICS AND SPACE ADMINISTRATION

[Notice: (19-075)]

NASA Advisory Council; Aeronautics Committee; Meeting

AGENCY: National Aeronautics and Space Administration.

ACTION: Notice of meeting.

SUMMARY: In accordance with the Federal Advisory Committee Act, as amended, the National Aeronautics and Space Administration (NASA) announces a meeting of the Aeronautics Committee of the NASA Advisory Council (NAC). The Committee reports the NAC. This meeting will be held for soliciting, from the aeronautics community and other persons, research and technical information relevant to program planning.

DATES: Thursday, November 21, 2019, 1:00 p.m.-5:30 p.m., and Friday, November 22, 2019, 9:00 a.m. to 12:30 p.m., Eastern Time.

ADDRESSES: National Institute of Aerospace, Room 101, 100 Exploration Way, Hampton, VA 23666.

FOR FURTHER INFORMATION CONTACT: Ms. Irma Rodriguez, Designated Federal Officer, Aeronautics Research Mission Directorate, NASA Headquarters, Washington, DC 20546, (202) 358-0984, or irma.c.rodriguez@nasa.gov.

SUPPLEMENTARY INFORMATION: The meeting will be open to the public up to the capacity of the room. This meeting is also available telephonically and by WebEx. You must use a touch-tone telephone to participate in this meeting. Any interested person may dial the USA toll-free conference number 1-888-769-8716, participant passcode: 6813159, followed by the # sign, on both days to participate in this meeting by telephone. The WebEx link is https://nasaenterprise.webex.com. The meeting number on November 21 is 904 832 378, and the password is 2Vqhs9D* (case sensitive). The meeting on November 22 number is 909 681 526 and the password is qPs5d3N* (case sensitive). The agenda for the meeting includes the following topics:

—System Wide Safety Assurance

—Supersonic Market Developments and Low Boom Flight Demonstrator Status

For questions, please call Ms. Irma Rodriguez at (202) 358-0984. Attendees will be requested to sign a register to document meeting attendance. It is imperative that the meeting be held on these dates to accommodate the scheduling priorities of the key participants.

Patricia Rausch,
Advisory Committee Management Officer, National Aeronautics and Space Administration.

[FR Doc. 2019-23716 Filed 10-29-19; 8:45 am]

BILLING CODE 7510-13-P